DEPARTMENT OF ENERGY

Environmental Management Site-Specific Advisory Board, Northern New Mexico

AGENCY: Department of Energy.

ACTION: Notice of open meeting.

SUMMARY: This notice announces a retreat and meeting of the Environmental Management Site-Specific Advisory Board (EM SSAB), Northern New Mexico. The Federal Advisory Committee Act (Pub. L. 92-463, 86 Stat. 770) requires that public notice of this meeting be announced in the Federal Register.

DATES: Wednesday, May 12, 2010, 9 a.m.-5 p.m. Thursday, May 13, 2010, 9 a.m.-4:30 p.m.

ADDRESSES: Ohkay Owingeh Conference Center, North Taos Highway 68, San Juan Pueblo, New Mexico 87566.

FOR FURTHER INFORMATION CONTACT: Menice Santistevan, Northern New Mexico Citizens' Advisory Board (NNMCAB), 1660 Old Pecos Trail, Suite B, Santa Fe, NM 87505. Phone (505) 995-0393; Fax (505) 989-1752 or E-mail: msantistevan@doeal.gov.

SUPPLEMENTARY INFORMATION: Purpose of the Board: The purpose of the Board is to make recommendations to DOE-EM in the areas of environmental restoration, waste management, and related activities.

Tentative Agenda

Retreat—Wednesday, May 12, 2010

9 a.m. Welcome and Introductions, Lori Isenberg

9:15 a.m. Welcome by Governor Marcelino Aguino, Ohkay Owingeh

9:30 a.m. New Mexico Environment Department (NMED), James Bearzi

• Status of Consent Order

• NMED Issues of Concern

• RCRA Permit Renewal

• Top Three Issues

10:30 a.m. Break

10:45 a.m. Environmental Protection Agency (EPA), Rich Mayer

• Federal Facilities Compliance Act

• National Pollutant Discharge Elimination System Permit

• Waste Isolation Pilot Plant

• Other EPA Regulatory Activities at Los Alamos National Laboratory

11:45 a.m. Lunch Break

1 p.m. DOE, Los Alamos Site Office (LASO), George J. Rael

• Organizational Chart for LASO and Los Alamos National Security

• Top Three Priorities

• EM Baseline

• Funding Issues

• Impacts of Delayed Funding

2 p.m. LANL Consent Order, Michael Graham

• LANL EM Program Master Plan

• Progress in Clean-up

• Future Activities

• LANL Issues of Concern

• Top Three Issues

3 p.m. Break

3:30 p.m. NNMCAB Communications, Lorelei Novak

• Web Site Training

• Speaker's Bureau Information

• Distribution of Information to Members

4:30 p.m. Wrap-up Discussion, Lori Isenberg

5 p.m. Adjourn

Meeting—Thursday, May 13, 2010

9 a.m. Call to Order by Co-Deputy Designated Federal Officers (DDFOs), Ed Worth and Lee Bishop

Establishment of a Quorum, Lorelei Novak

• Roll Call

• Excused Absences

Welcome and Introductions, Ralph Phelps

Approval of Agenda

Approval of March 31, 2010 Meeting Minutes

9:15 a.m. Public Comment Period

9:30 a.m. Open Forum for NNMCAB Members

10 a.m. Old Business

• Written reports

• Other items

10:30 a.m. Break

10:45 a.m. New Business

11 a.m. Co-DDFO Report

11:15 a.m. Consideration and Action on Recommendation(s)

12 p.m. Lunch Break

1 p.m. Presentation on Disposal Authority Statement (DAS) and Performance Assessment and Composite Analysis (PA/CA)

3 p.m. Break

3:15 p.m. Continue DAS and PA/CA Presentation

4 p.m. Public Comment Period

4:15 p.m. Wrap-up Discussion, Lori Isenberg

4:30 p.m. Adjourn

Public Participation: The EM SSAB, Northern New Mexico, welcomes the attendance of the public at its advisory committee meetings and will make every effort to accommodate persons with physical disabilities or special needs. If you require special accommodations due to a disability, please contact Menice Santistevan at least seven days in advance of the meeting at the telephone number listed above. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Menice Santistevan at the address or phone number listed above. Minutes and other Board documents are on the Internet at: http://www.nnmcab.org/.

Issued at Washington, DC, on April 29, 2010.
Carol A. Matthews,
Committee Management Officer.

[FR Doc. 2010-10516 Filed 5-4-10; 8:45 am]

BILLING CODE 6450-01-P